DEPARTMENT OF DEFENSE

Office of the Secretary

32 CFR Part 199

[Docket ID DOD-2012-HA-0049]

RIN 0720-AB57

Civilian Health and Medical Program of the Uniformed Services (CHAMPUS)/TRICARE: TRICARE Retail Pharmacy Program

AGENCY: Office of the Secretary, Department of Defense (DoD).

ACTION: Proposed rule; withdrawal.

SUMMARY: The Department of Defense published a proposed rule for the CHAMPUS/TRICARE: TRICARE Retail Pharmacy Program on Tuesday, June 26, 2012 (77 FR 38019). This rule is being published to withdrawal the proposed rule. The Department has decided to defer consideration of possible regulatory changes to the TRICARE Pharmacy Benefits Program for the present time.

DATES: The proposed rule published on Tuesday, June 26, 2012 is withdrawn as of Tuesday, June 26, 2012.

FOR FURTHER INFORMATION CONTACT: Rear Admiral Thomas McGinnis, Chief, Pharmacy Operations Directorate, TRICARE Management Activity, telephone 703-681-2890.

Dated: June 28, 2012.
Patricia L. Toppings,
OSD Federal Register Liaison Officer, Department of Defense.

[FR Doc. 2012-16419 Filed 7-3-12; 8:45 am]

BILLING CODE 5001-06-P